DEPARTMENT OF DEFENSE

Office of the Secretary

[Transmittal No. 23-67]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil

SUPPLEMENTARY INFORMATION: This 36(b)(1) arms sales notification is published to fulfill the requirements of section 155 of Public Law 104-164 dated July 21, 1996. The following is a copy of a letter to the Speaker of the House of Representatives with attached Transmittal 23-67, Policy Justification, and Sensitivity of Technology.

Dated: November 1, 2024.
Stephanie J. Bost,
Alternate OSD Federal Register Liaison Officer, Department of Defense.

BILLING CODE 6001-FR-P

BILLING CODE 6001-FR-C

Transmittal No. 23-67

Notice of Proposed Issuance of Letter of Offer Pursuant to Section 36(b)(1) of the Arms Export Control Act, as amended

(i) Prospective Purchaser: Government of Poland

(ii) Total Estimated Value:

Major Defense Equipment * | $ 0 million
Other | $389 million
TOTAL | $389 million

Funding Source: National Funds

(iii) Description and Quantity or Quantities of Articles or Services under Consideration for Purchase: Foreign Military Sales (FMS) case PL-D-QBC was below the congressional notification threshold at $82 million ($0 in MDE) and included non-MDE items and services in support of F-16 aircraft sustainment. The Government of Poland has requested the case be amended to include additional non-MDE items and services as indicated below. This amendment will push the current case above the total case value notification threshold and thus requires notification of the entire case.

Major Defense Equipment (MDE):

None

Non-MDE:

Included are Electronic Warfare database reprogramming support; classified and unclassified software delivery and support; classified and unclassified publications and technical documentation; spare parts, consumables, accessories, and repair and return support; computer program identification numbers; engine Component Improvement Program support; minor modifications; maintenance and maintenance support; studies and surveys; U.S. Government and contractor engineering, technical, and logistics support services; and other related elements of logistics and program support.

(iv) Military Department: Air Force (PL-D-QBC)

(v) Prior Related Cases, if any: PL-D-QAW, PL-D-QAR, PL-D-QAO

(vi) Sales Commission, Fee, etc., Paid, Offered, or Agreed to be Paid: None known at this time

(vii) Sensitivity of Technology Contained in the Defense Article or Defense Services Proposed to be Sold: See Attached Annex

(viii) Date Report Delivered to Congress: September 13, 2023

* As defined in Section 47(6) of the Arms Export Control Act.

POLICY JUSTIFICATION

Poland—F-16 Sustainment

The Government of Poland has requested to buy additional non-MDE articles and services, as indicated below, that will be added to a previously implemented case whose value was under the congressional notification threshold. The original FMS case, valued at $82 million, included articles and services in support of F-16 aircraft sustainment. This notification is for the combined non-MDE F-16 sustainment articles and services, which includes Electronic Warfare database reprogramming support; classified and unclassified software delivery and support; classified and unclassified publications and technical documentation; spare parts, consumables, accessories, and repair and return support; computer program identification numbers; engine Component Improvement Program support; minor modifications; maintenance and maintenance support; studies and surveys; U.S. Government and contractor engineering, technical, and logistics support services; and other related elements of logistics and program support. The estimated total cost is $389 million.

This proposed sale will support the foreign policy goals and national security objectives of the United States by improving the security of a North Atlantic Treaty Organization Ally that is a force for political stability and economic progress in Europe.

The proposed sale will improve Poland's capability to meet current and future threats by increasing the reliability of their F-16 fleet. Poland has purchased sustainment support for the F-16s in its inventory for many years and will have no difficulty absorbing these articles and services into its armed forces.

The proposed sale of this equipment and support will not alter the basic military balance in the region.

The principal contractor will be Lockheed Martin, Fort Worth, TX. There are no known offset agreements proposed in connection with this potential sale.

Implementation of this proposed sale will not require the assignment of any additional U.S. Government or contractor representatives to Poland.

There will be no adverse impact on U.S. defense readiness as a result of this proposed sale.

Transmittal No. 23-67

Notice of Proposed Issuance of Letter of Offer Pursuant to Section 36(b)(1) of the Arms Export Control Act

Annex

Item No. vii

(vii) Sensitivity of Technology:

1. The Electronic Warfare Integrated Reprogramming Database (EWIRDB) is used by U.S. Government engineers in the reprogramming and creation of shareable Mission Data Files for the exported EW systems.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Poland can provide substantially the same degree of protection for the sensitive technology being released as the U.S. Government. This sale is necessary in furtherance of the U.S. foreign policy and national security objectives outlined in the Policy Justification.

5. All defense articles and services listed in this transmittal have been authorized for release and export to Poland.

[FR Doc. 2024-25768 Filed 11-5-24; 8:45 am]

BILLING CODE 6001-FR-P